GENERAL SERVICES ADMINISTRATION

41 CFR Parts 301-11 and 301-74

[FTR Amendment 2005-06; FTR Case 2005-306]

RIN 3090-AI20

Federal Travel Regulation; Per Diem Expenses (Meals and Incidental Expense Allowance) - 2005

AGENCY: Office of Governmentwide Policy, General Services Administration (GSA).

ACTION: Final rule.

SUMMARY: The General Services Administration (GSA) is amending the Federal Travel Regulation (FTR), by revising the meals and incidental expense (MI&E) allowance rates for the deduction of meals furnished by the Government or meals that are included in a registration fee, for travel within the Continental United States (CONUS). The FTR and any corresponding documents may be accessed at GSA's website at http://www.gsa.gov/ftr.

DATES: Effective Date: October 1, 2005.

FOR FURTHER INFORMATION CONTACT: The Regulatory Secretariat (VIR), Room 4035, GS Building, Washington, DC, 20405, (202) 208-7312, for information pertaining to status or publication schedules. For clarification of content, contact Ms. Umeki Gray Thorne, Office of Governmentwide Policy, Travel and Transportation Policy Formulation, at (202) 208-7636. Please cite FTR Amendment 2005-06; FTR case 2005-306.

SUPPLEMENTARY INFORMATION:

A. Background

In July 2005 a study was conducted to evaluate the current cost of meals in non-standard and standard CONUS areas. The previous study of this kind was conducted in 1998. As a result of the 2005 study's findings, a new meals and incidental expense rate was approved. These new meal rates and new meal breakdown allowances for meals furnished by the Government or meals that are included in a registration fee for CONUS travel are provided under this amendment.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 301-11 and 301-74

Government employees, Travel and transportation expenses.

Dated: October 4, 2005.
Stephen A. Perry,
Administrator of General Services.

For the reasons set forth in the preamble, under 5 U.S.C. 5701-5709, GSA amends 41 CFR parts 301-11 and 301-74 as set forth below:

PART 301-11—PER DIEM EXPENSES

1. The authority citation for 41 CFR part 301-11 continues to read as follows:

Authority: 5 U.S.C. 5707.

2. Revise section 301-11.18 to read as follows:

§ 301-11.18 What M&IE rate will I receive if a meal(s) is furnished by the Government or is included in the registration fee?

Your M&IE rate must be adjusted for a meal(s) furnished to you by the Government (including meals furnished under the authority of Part 304 of this Title) by deducting the appropriate amount shown in the chart in this section for travel within CONUS and the chart in Appendix B of this Chapter for meal deductions for OCONUS and foreign travel. The total amount of deductions made will not cause you to receive less than the amount allowed for incidental expenses.

Total M&IE | $39 | $44 | $49 | $54 | $59 | $64
Breakfast | 7 | 8 | 9 | 10 | 11 | 12
Lunch | 11 | 12 | 13 | 15 | 16 | 18
Dinner | 18 | 21 | 24 | 26 | 29 | 31
Incidentals | 3 | 3 | 3 | 3 | 3 | 3

PART 301-74—CONFERENCE PLANNING

3. The authority citation for 41 CFR part 301-74 continues to read as follows:

Authority: 5 U.S.C. 5707.

§ 301-74.21 What is the applicable M&IE rate when meals or light refreshments are furnished by the Government or are included in the registration fee?

4. Amend § 301-74.21 by revising the section heading as set forth above and removing from the introductory paragraph of the response “at nominal or no cost”.

[FR Doc. 05-20690 Filed 10-14-05; 8:45 am]

BILLING CODE 6820-14-S